NATIONAL CREDIT UNION ADMINISTRATION

Agency Information Collection Activities: Submission to OMB for Reinstatement, Without Change, of a Previously Approved Collection; Comment Request

AGENCY: National Credit Union Administration (NCUA).

ACTION: Request for comment.

SUMMARY: The NCUA is submitting the following reinstatement, without change, of a previously approved collection for which approval has expired, to the Office of Management and Budget (OMB) for review and clearance under the Paperwork Reduction Act of 1995 (Pub. L. 104-13, 44 U.S.C. Chapter 35). This information collection is published to obtain comments from the public.

DATES: Comments will be accepted until September 25, 2003.

ADDRESSES: Interested parties are invited to submit written comments to NCUA Clearance Officer or OMB Reviewer listed below:

Clearance Officer: Mr. Neil McNamara (703) 518-6447, National Credit Union Administration, 1775 Duke Street, Alexandria, Virginia 22314-3428, Fax No. (703) 518-6669, e-mail: mcnamara@ncua.gov.

OMB Reviewer: Mr. Joseph F. Lackey (202) 395-4741, Office of Management and Budget, Room 10226, New Executive Office Building, Washington, DC 20503.

FOR FURTHER INFORMATION CONTACT: Copies of this information collection request, with applicable supporting documentation, may be obtained by calling the NCUA Clearance Officer, Neil McNamara, (703) 518-6447. It is also available on the following Web site: http://www.NCUA.gov.

SUPPLEMENTARY INFORMATION: Proposal for the following collection of information:

OMB Number: 3133-0139.

Form Number: N/A.

Type of Review: Reinstatement, without change, of a previously approved collection for which approval has expired.

Title: Organization and Operation of Federal Credit Unions.

Description: Federal Credit Unions wishing to pay lending-related incentives to employees must establish written policies.

Respondents: Certain Federal Credit Unions.

Estimated No. of Respondents/Recordkeepers: 1,000.

Estimated Burden Hours Per Response: One.

Frequency of Response: On occasion.

Estimated Total Annual Burden Hours: 1,000.

Estimated Total Annual Cost: $25,000.

By the National Credit Union Administration Board on August 18, 2003.
Becky Baker,
Secretary of the Board.

[FR Doc. 03-21809 Filed 8-25-03; 8:45 am]

BILLING CODE 7535-01-P